FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 25, 2010.

A. Federal Reserve Bank of Cleveland (Nadine Wallman, Vice President) 1455 East Sixth Street, Cleveland, Ohio 44101-2566:

1. Clay P. Graham, individually, and with Bryan H. Graham, both of Zanesville, Ohio, and the Estate of James F. Graham, Zanesville, Ohio, acting in concert; to acquire voting shares of North Valley Bancshares, Inc., and thereby indirectly acquire voting shares and control of the North Valley Bank, both of Zanesville, Ohio.

Board of Governors of the Federal Reserve System, October 5, 2010.
Robert deV. Frierson,
Deputy Secretary of the Board.

[FR Doc. 2010-25385 Filed 10-7-10; 8:45 am]

BILLING CODE 6210-01-P